DEPARTMENT OF TRANSPORTATION

Federal Aviation Administration

14 CFR Part 71

[Docket No. FAA-2005-21607; Airspace Docket No. 05-ACE-17]

Establishment of Class E5 Airspace; Gardner, KS

AGENCY: Federal Aviation Administration (FAA), DOT.

ACTION: Final rule.

SUMMARY: This rule establishes a Class E surface area airspace area extending upward from 700 feet above the surface at Gardner, KS.

The effect of this rule is to provide appropriate controlled Class E airspace for aircraft departing from and executing approach procedures to, Gardner Municipal Airport, KS and to segregate aircraft using instrument approach procedures in instrument conditions from aircraft operating in visual conditions.

EFFECTIVE DATE: 0901 UTC, October 27, 2005.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

On Thursday, August 4, 2005 the FAA proposes to amend part 71 of the Federal Aviation Regulations (14 CFR part 71) to establish Class E airspace at Gardner, KS (70 FR 44868). The proposal was to establish a Class E5 airspace area to bring Gardner, KS airspace into compliance with FAA directives. Interested parties were invited to participate in this rulemaking proceeding by submitting written comments on the proposals to the FAA. No comments objecting to the proposal were received.

The Rule

This notice amends part 71 of the Federal Aviation Regulations (14 CFR part 71) by establishing a Class E airspace area extending upward from 700 feet above the surface at Gardner Municipal Airport, KS. A Class E airspace area overlies Gardner Municipal Airport, KS, however, its purpose and description are relative to Olathe, New Century Aircenter, KS and does not fully enclose the NDB or GPS-D Instrument Approach Procedure to Gardner Municipal Airport, KS. This notice will correct this discrepancy by establishing a Class E airspace area extending upward from 700 feet above the surface within a 6.4 mile-radius of Gardner Municipal Airport, KS excluding that airspace within the Olathe, New Century Aircenter, KS Class D airspace. This will define airspace of appropriate dimensions to protect aircraft departing and executing instrument approach procedures to Gardner Municipal Airport and bring the airspace area into compliance with FAA directives. The area would be depicted on appropriate aeronautical charts.

Class E airspace areas designated as surface areas are published in Paragraph 6002 of FAA Order 7400.9N, Airspace Designations and Reporting Points, dated September 1, 2005, and effective September 16, 2005, which is incorporated by reference in 14 CFR 71.1. Class E airspace areas extending upward from 700 feet or more above the surface of the earth are published in Paragraph 6005 of the same Order. The Class E airspace designations listed in this document will be published subsequently in the Order.

The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

This rulemaking is promulgated under the authority described in subtitle VII, part A, subpart I, section 40103. Under that section, the FAA is charged with prescribing regulations to assign the use of the airspace necessary to ensure the safety of aircraft and the efficient use of airspace. This regulation is within the scope of that authority since it contains aircraft executing instrument approach procedures to Gardner Municipal Airport.

List of Subjects in 14 CFR Part 71

Airspace, Incorporation by reference, Navigation (Air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g); 40103, 40113, 40120; E.O. 10854, 24 FR 9655, 3 CFR, 1959-1963 Comp., p. 389.

§ 71.1 [Amended]

2. The incorporation by reference in 14 CFR 71.1 of Federal Aviation Administration Order 7400.9N, dated September 1, 2005, and effective September 16, 2005, is amended as follows:

Paragraph 6005 Class E Airspace areas extending upward from 700 feet or more above the surface of the earth.

* * * * *

ACE KS E5 Gardner, KS

Gardner Muncipal Airport, KS

(Lat. 38°48′25″ N., long, 94°57′22″ W.)

That airspace extending upward from 700 feet above the surface within a 6.4-mile radius of Gardner Muncipal Airport excluding that airspace within the Olathe, New Century Aircenter, KS Class D airspace area.

* * * * *

Issued in Kansas City, MO, on September 2, 2005.
Elizabeth S. Wallis,
Acting Area Director, Western Flight Services Operations.

[FR Doc. 05-18159 Filed 9-12-05; 8:45 am]

BILLING CODE 4910-13-M